FEDERAL MINE SAFETY AND HEALTH REVIEW COMMISSION

Sunshine Act Notice

TIME AND DATE: 10:00 a.m., Friday, November 22, 2019.

PLACE: The Richard V. Backley Hearing Room, Room 511N, 1331 Pennsylvania Avenue NW, Washington, DC 20004 (enter from F Street entrance).

STATUS: Open.

MATTERS TO BE CONSIDERED: The Commission will consider and act upon the following in open session: Secretary of Labor v. Peabody Midwest Mining, LLC, Docket No. LAKE 2017-450. (Issues include whether the Judge erred in concluding that a violation of the mine's emergency response plan was “significant and substantial.”)

Any person attending this meeting who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD Relay/1-800-877-8339 for toll free.

PHONE NUMBER FOR LISTENING TO MEETING: 1-(866) 867-4769, Passcode: 678-100.

Authority: 5 U.S.C. 552b.

Dated: October 3, 2019.
Sarah L. Stewart,
Deputy General Counsel.

[FR Doc. 2019-21995 Filed 10-3-19; 4:15 pm]

BILLING CODE 6735-01-P